DEPARTMENT OF DEFENSE

Department of the Army, Corps of Engineers

Intent To Prepare a Draft Environmental Impact Statement for the Proposed Gray's Beach Restoration Project, Waikiki, O'ahu, HI, Department of the Army Regulatory File Number POH-2007-192

AGENCY: Department of the Army, U.S. Army Corps of Engineers, DOD.

ACTION: Notice of Intent.

SUMMARY: In order to establish a stable, sandy beach seaward of the Sheraton Waikiki Hotel, its owners propose to construct three T-head groins extending seaward from the existing seawall which defines the hotel property boundary. They propose to pump sand from nearby marine deposits and place it between the groins to form a protected beach. The proposed project site, which is within the State of Hawai'i Conservation District, would remain state-owned. The project site is located within the navigable waters of the United States and the proposed activity is subject to the regulatory jurisdiction of the U.S. Army Corps of Engineers.

DATES: In order to be considered in preparation of the DEIS, comments and suggestions should be received no later than 30 days after publication of this notice in the Federal Register.

ADDRESSES: Send written comments to U.S. Army Corps of Engineers, Honolulu District; ATTN: Regulatory Branch (CEPOH-EC-R/P. Galloway), Building 230; Fort Shafter, HI 96858-5440. Facsimile comments can be sent to 808-438-4060. Comments may also be submitted via e-mail to: peter.c.galloway@usace.army.mil.

FOR FURTHER INFORMATION CONTACT: Questions about the proposed action and the Draft Environmental Impact Statement (DEIS) should be addressed to: Mr. Peter Galloway (see ADDRESSES), Telephone 808-438-8416.

SUPPLEMENTARY INFORMATION: Kyo-ya Hotels & Resorts LP, which owns the Sheraton Waikiki Hotel (Sheraton) and the adjacent Royal Hawaiian Hotel, proposes to develop a stable sandy beach on the abutting inshore reef flat fronting the Sheraton in order to enhance recreational and aesthetic enjoyment of the area, provide protection for the backshore area, and facilitate lateral access along the shoreline. The Sheraton is presently protected by a vertical seawall, constructed at the hotel's seaward property line, which has been in place since the 1920s. There is presently very little beach area fronting the Sheraton, which was constructed close to the seaward property line, making the area one of the most constrained in Waikiki with respect to public alongshore (lateral) access. The narrow band of sand fronting the Sheraton seawall comes and goes, and is typically under water at high tide. The site of the proposed project is owned by the State of Hawai'i and is designated State of Hawai'i Conservation District land.

To create the desired beach, the applicant proposes to construct three un-grouted, basalt-rock T-head groins that would span 500 feet of shoreline. The stems of the T-head groins would extend 160 feet seaward into the inshore area from the existing seawall, and the T-heads would extend 53 feet to either side of each stem, at angles ranging from 90 to 120 degrees. The angle of each T-head will be established so as to best orient the gaps between the heads parallel to the average wave approach. Approximately 15,000 cubic yards of sand would be pumped from nearby offshore deposits and placed between and adjacent to the T-head groins to create sections of protected beach. The total area of the permanent rock and sand fill in waters of the U.S. would be approximately 2.7 acres. The total area of dry beach (sand area above the high tide line) created would be approximately 1 acre. In order to provide access for construction of the groins, the applicant proposes to construct temporary sections of rock platform, approximately 20 feet in width, along the seaward side of the existing vertical concrete seawall.

The proposed project would involve work or structures in or affecting the course, condition, location or capacity of navigable waters of the United States. In addition, it would involve the discharge of dredged or fill material into navigable waters of the United States. Federal authorization of the project will therefore require issuance of a Department of the Army (DA) permit pursuant to both Section 10 of the Rivers and Harbors Act of 1899 (33 U.S.C. 403) and Section 404 of the Clean Water Act (33 U.S.C. 1344).

In addition to the no-action alternative, other alternatives to be considered in the DEIS may include: (1) Project with different size and/or number of T-head groins, or other structural designs; (2) project with groin structures but no sand fill; and (3) sand placement and replenishment with no stabilizing structures.

Potentially significant impacts identified to date and to be addressed in the DEIS include: (1) Conversion of an inshore reef area to a structurally protected sandy beach; (2) loss of foraging habitat (algae beds) utilized by federally protected sea turtles; (3) changes in adjacent algal community; (4) changes in inshore water circulation pattern including water residence time; (5) other, unforeseen changes in adjacent reef habitat; (6) effects of sand removal from seaward marine deposits; (7) effects on surfing and wave reflection; (8) changes in availability of recreation and recreational facilities; (9) changes in beach and shoreline access and use; (10) setting of precedent for use of T-head groins in Hawai'i; (11) setting of precedent for privately funded beach restoration or creation on adjacent public conservation lands.

The decision whether to issue a DA permit will be based on an evaluation of the probable impacts, including cumulative impacts, of the proposed activity on the public interest. That decision will reflect the national concern for both protection and utilization of important resources. The benefit, which reasonably may be expected to accrue from the proposal, must be balanced against its reasonably foreseeable detriments. All factors which may be relevant to the proposal will be considered, including the cumulative effects thereof: among these are conservation, economics, aesthetics, general environmental concerns, wetlands, historic values, fish and wildlife values, flood hazards, floodplain values, land use, navigation, shoreline erosion and accretion, recreation, water supply and conservation, water quality, energy needs, safety, food and fiber production, mineral needs, considerations of property ownership and, in general, the needs and welfare of the people. Evaluation of the impact of the activity on the public interest will include application of the guidelines promulgated by the Administrator, Environmental Protection Agency (40 CFR part 230).

The Corps will invite the National Marine Fisheries Service and U.S. Fish and Wildlife Service to be cooperating agencies in preparation of the DEIS. The Corps anticipates that consultations will be required pursuant to provisions of the Magnuson-Stevens Fishery Conservation and Management Act, Section 7 of the Endangered Species Act, and Section 106 of the National Historic Preservation Act. Before a final DA permit can be issued, the applicant must first obtain a Hawai'i Coastal Zone Management (CZM) Program federal consistency certification issued by the State of Hawai'i Department of Business, Economic Development and Tourism, and a Clean Water Act Section 401 Water Quality Certification, or waiver thereof, issued by the State of Hawai'i Department of Health.

The Corps invites participation in the EIS process of affected federal, state and local agencies; affected Hawaiian organizations, individuals and practitioners; and other interested private organizations and parties. The applicant has issued a state-level EIS Preparation Notice (EISPN) pursuant to requirements of the Hawai'i Revised Statutes (HRS Chapter 343) stating that the applicant anticipates preparation of a joint state and federal EIS document. All comments received in response to this NOI and the state EISPN will be considered when determining the scope of the combined DEIS. To the extent practicable, federal and state requirements will be coordinated in the preparation of the joint document.

A public scoping meeting will be held on Wednesday, December 17, 2008, at the Waikiki Community Center, 310 Paoakalani Avenue, Honolulu, Hawaii, from 6:30 p.m. until 8:30 p.m., to help determine the scope of analysis of the proposed action. The scoping meeting will also be announced in local media. Interested parties are encouraged to express their views during the scoping process and throughout the development of alternatives and the joint DEIS. To be most helpful, comments should clearly describe specific environmental topics or issues which the commenter believes the document should address. Further information concerning the proposed or the scoping meeting may be obtained from Peter C. Galloway (see ADDRESSES). The DEIS is expected to be published and circulated for review in mid-2009, and the final EIS is expected to be completed 4 to 6 months later.

Dated: November 7, 2008.
John W. Henderson,
Major, U.S. Army, Acting Commander.

[FR Doc. E8-27176 Filed 11-14-08; 8:45 am]

BILLING CODE 3720-58-P